DEPARTMENT OF AGRICULTURE

Forest Service

Transfer of Land to the Department of Interior

AGENCY: Forest Service, USDA.

ACTION: Notice of Land Transfer.

SUMMARY: Approximately 353.63 acres of National Forest System lands are transferred to the jurisdiction of the Secretary of Interior pursuant to the Hoopa-Yurok Settlement Act (Pub. L. 100-580; 102 Stat. 2924 (1988)). Transfer of Jurisdiction of Certain National Forest System Lands in California to the Department of the Interior for the benefit of the Yurok Tribe.

DATES: This notice becomes effective December 31, 2012.

FOR FURTHER INFORMATION CONTACT: Louisa Herrera, National Title Program Manager, (202) 205-1255, Lands and Realty Management.

SUPPLEMENTARY INFORMATION: The Hoopa-Yurok Settlement Act (Pub. L. 100-580;102; Stat. 2924 (1988)), hereafter “Act”, provides at section 2(c) that, subject to valid existing rights, certain enumerated National Forest System lands shall be “held in trust by the United States for the benefit of the Yurok Tribe and shall be part of the Yurok Reservation” (102 Stat. 2926). A condition precedent to such lands being held in trust is adoption of a resolution of the Interim Council of the Yurok Tribe as provided in section 2(c)(4) of the Act (102 Stat. 2926).

On March 21, 2007, the Yurok Tribal Council enacted Resolution No. 07-037, waiving certain claims and consenting to uses of tribal funds pursuant to the Act. The Department of the Interior has determined that the resolution meets the requirements of section 2(c)(4) of the Act, and that determination has been accepted by the Department of Agriculture.

Therefore, the conditions of transfer having been met, subject to valid existing rights, administrative jurisdiction over the following Federally owned lands, including improvements, is hereby vested in the Secretary of the Interior, to be held in trust for the Yurok Tribe. The lands are described as follows:

Six Rivers National Forest, Northern Redwood Purchase Unit, California

Humboldt Meridian, Del Norte County, California

T.13 N., R. 1 E.

Sec. 3, Lot 3 excepting parcel 3C, Lot 4 excepting parcel 4D, SW1/4NW1/4 excepting parcel E, SE1/4NW1/4 excepting parcel F, NE1/4SW1/4 excepting parcel J, NW1/4SE1/4 excepting parcel J, SW1/4SE1/4 excepting parcel K, all as shown on the Bureau of Land Management plat of the resurvey of T.13 N., R.1 E., H.M., approved June 24, 1971;

Sec. 10, Lot 1 excepting parcel 1C, Lot 6 excepting parcel 6D, NW1/4NE1/4 excepting parcel B, SE1/4NE1/4 excepting parcel E, NE1/4SE1/4 excepting parcel F, all as shown on the Bureau of Land Management plat of the resurvey of T.13 N., R.1 E., H.M., approved June 24, 1971, and (1) excepting from lands in Sec. 10, a piece or parcel of land conveyed to the State of California by Willis C. Ward, et al., by deed dated June 18, 1934, and recorded August 21, 1935, on pages 92 to 95 of Book 54 of Deeds, Records of Del Norte County, California, said piece or parcel of land being fully described in said deed, and (2) also excepting those lands in Sec. 10 conveyed to the County of Del Norte by the United States of America by deed dated November 3, 1970, and recorded January 3, 1971, on pages 7 to 10 of Book 154 of Official Records of Del Norte County, California, said lands being fully described in said deed, and (3) also together with that parcel in Lot 6 of Sec. 10 conveyed to the United States of America by the County of Del Norte, by deed dated August 10, 1970, and recorded August 25, 1970, on pages 374 to 375 of Book 151 of Official Records of Del Norte County, California, said parcel being fully described in said deed;

Sec. 15, Portion of Lot 2 lying southerly of the northern boundary and the easterly prolongation of the northern boundary of parcels 2A and B, excepting parcel 2A, Lot 3 excepting parcel 3C, and Lot 6 excepting parcel 6G, all as shown on the Bureau of Land Management plat of the resurvey of T.13 N., R.1 E., H.M., approved June 24, 1971.

T.13 N., R.2 E.

Sec. 19, Lot 1 and Lot 5;

Sec. 20, W1/2SW1/4NW1/4

T. 14 N., R. 1 E.

That portion of Lot 6, Sec. 28, as per map titles Record of Survey for Six Rivers National Forest, recorded in Book 10 of Maps at Pages 154 to 157 in the office of Del Norte County Recorder, State of California, described as follows: Beginning at a monument marked AP-1 distant N 89° 14′42″W 350.00 feet from the Center ¼ corner of said Sec. 28,

North 117.17 feet to a monument marked AP-2,

N 40°00′00″ W 507.49 feet to a monument marked AP-3,

N 47°04′17″ W 263.59 feet to a monument marked AP-4,

N 04°15′38″ E 367.17 feet to a monument marked AP-5,

N 89°14′42″ W 456.56 feet to a monument marked AP-6,

S 04°15′43″ W 426.05 feet along the N-S Centerline of the

NW¼, Sec. 28, to a monument marked AP-7,

Thence along a non-tangent curve concave southwesterly with a radius of 2040 feet through a central angle of 04°32′48″ a distance of 161.89 feet (chord length) to a monument marked M29R,

S 22°44′12E 516.87 feet along the easterly right of way line for Highway 101 to a monument marked AP-9,

S 89 14′42″E 711.98 feet along the south line of the NW1/4,Sec. 28, to the point of beginning,

EXCEPT that parcel lying east of the N-S Centerline of the NW ¼, Sec. 28, between AP-6 and AP-7, conveyed to Freda D. Davidson by the United States of America by deed dated April 18, 1991, and recorded May 1, 1991, on pages 512 to 514 of Book 373 of Official Records of Del Norte County, California, said land being further described on the Record of Survey filed in Book 10 of Maps at Page 199 in the office of Del Norte County Recorder, State of California.

And including: correction deed recorded June 5, 1991, on pages 811 and 812 of Book 374 of the Official Records of Del Norte County, California. The correction deed changed the location of the conveyance parcel from being in a portion of the NW1/4 NW1/4 Section 28, T14N R1E HM to a portion of Lot 6 in the same section, township and range.

Dated: December 19, 2012.
Calvin N. Joyner,
Associate Deputy Chief, National Forest Service.

[FR Doc. 2012-31342 Filed 12-28-12; 8:45 am]

BILLING CODE 3410-11-P